DEPARTMENT OF THE INTERIOR

Bureau of Land Management

[LLWY920000.L14300000.FR0000; WYW139860, WYW63275]

Notice of Realty Action; Modification of the Segregative Effect of Recreation and Public Purposes Act Classifications of Public Lands in Natrona County, WY

AGENCY: Bureau of Land Management, Interior.

ACTION: Notice of realty action.

SUMMARY: The Bureau of Land Management (BLM) is amending the segregative effect of two Recreation and Public Purposes (R&PP) Act classifications which are included in the Federal lands selected as part of the Muddy Mountain Land Exchange (exchange) in Natrona County, Wyoming. This action will modify the segregation to open the lands only to effect this exchange.

FOR FURTHER INFORMATION CONTACT: Patrick J. Moore, Assistant Field Manager, Minerals and Lands, Bureau of Land Management, Casper Field Office, 2987 Prospector Drive, Casper, Wyoming 82604-2968; (307) 261-7530; or e-mail Patrick_Moore@blm.gov.

SUPPLEMENTARY INFORMATION: The BLM is processing a proposed land exchange in Natrona County, Wyoming. The selected Federal lands include two R&PP leases to the Town of Midwest for a sewage lagoon site and a diving pond. Prior to issuance of the leases, the lands were classified for R&PP lease on November 3, 1978, and published in the Federal Register (62 FR 9446) which included segregation of the lands from the public land laws. In order for the R&PP leased land to be included in the exchange, the segregative effect of the classifications must be modified to allow for the exchange. Upon completion of the exchange, title to the lands encumbered by the R&PP leases will be transferred to the non-Federal party subject to the R&PP leases. Therefore, on January 14, 2011, the segregative effect of the classification for the Midwest sewage lagoon (WYW6327501) and the segregative effect of the classification for the Midwest diving pond (WYW13986001) is modified and the lands are opened only to transfer of title pursuant to the Muddy Mountain Land Exchange (WYW168824).

Except for the Muddy Mountain exchange, the lands will continue to be segregated from the operation of the public land laws.

Authority: 43 CFR 2741.5.

Donald A. Simpson,
State Director.

[FR Doc. 2011-604 Filed 1-13-11; 8:45 am]

BILLING CODE 4310-22-P